DEPARTMENT OF COMMERCE

International Trade Administration

Initiation of Antidumping and Countervailing Duty Administrative Reviews and Request for Revocation in Part

AGENCY: Import Administration, International Trade Administration, Department of Commerce.

ACTION: Notice of Initiation of Anticumping and Countervailing Duty Administrative Reviews and Request for Revocation in Part.

SUMMARY: The Department of Commerce has received requests to conduct administrative reviews of various antidumping and countervailing duty orders and findings with April anniversary dates. In accordance with the Department's regulations, we are initiating those administrative reviews. The Department of Commerce also received a request to revoke one antidumpting duty order in part.

EFFECTIVE DATE: May 27, 2005.

FOR FURTHER INFORMATION CONTACT: Holly A. Kuga, Office of AD/CVD Operations, Office 4, Import Administration, International Trade Administration, U.S. Department of Commerce, 14th Street and Constitution Avenue, NW., Washington, DC 20230, telephone (202) 482-4737.

SUPPLEMENTARY INFORMATION

Background

The Department has received timely requests, in accordance with 19 CFR 351.213(b)(2002), for administrative reviews of various antidumping and countervailing duty orders and findings with April anniversary dates. The Department also received a timely request to revoke in part the antidumping duty order on Certain Steel Concrete Reinforcing Bars from Turkey.

Initiation of Reviews

In accordance with section 19 CFR 351.221(c)(1)(i), we are initiating administrative reviews of the following antidumping and countervailing duty orders and findings. We intend to issue the final results of these reviews not later than April 30, 2006.

| Period to be reviewed
Antidumping Duty Proceedings
The People's Republic of China: Automotive Replacement Glass Windshields ¹ A-570-867 | 4/1/04-3/31/05
Changchum Pilkington Safety Glass Company, Ltd.
Shenzen CSG Automotive Glass Co., Ltd.
Wuhan Yaohua Pilkington Safety Glass Company, Ltd.
The People's Republic of China: Brake Rotors ² A-570-846 | 4/1/04-3/31/05
China National Machinery and Equipment Import & Export (Xianjiang) Corporation, and manufactured by any company other than Zibo Botai Manufacturing Co., Ltd.
National Automotive Industry Import & Export Corporation or China National Automotive Industry Import & Export Corporation, and manufactured by any company other than Shandong Laizhou CAPCO Industry (“Laizhou CAPCO”)
Laizhou CAPCO, and manufactured by any company other than Laizhou CAPCO
Laizhou Luyuan Automobile Fittings Co., and manufactured by any company other than Laizhou Luyuan Automobile Fittings Co., or Shenyang Honbase Machinery Co., Ltd.
Shenyang Honbase Machinery Co., Ltd., and manufactured by any company other than Laizhou Luyuan Automobile Fittings Co., or Shenyang Honbase Machinery Co., Ltd.,
China National Machinery Import & Export Company
Laizhou Auto Brake Equipment Factory
Qingdao Gren Co.
Yantai Winhere Auto-Part Manufacturing Co., Ltd.
Longkou Haimeng Machinery Co., Ltd.
Zibo Luzhou Automobile Parts Co., Ltd.
Laizhou Hongda Auto Replacement Parts Co., Ltd.
Hongfa Machinery (Dalian) Co., Ltd.
Qingdao Meita Automotive Industry Co., Ltd.
Laizhou Huanri Automobile Parts Co., Ltd.
Shangdong Huanri Group General Co.
Longkou TLC Machinery Co., Ltd.
Zibo Golden Harvest Machinery Limited Company
Shanxi Fengkun Metalurgical Limited Company
Xianghe Xumingyuan Auto Parts Co., Ltd.
Xiangfen Hengtai Brake System Co., Ltd.
Laizhou City Luqi Machinery Co., Ltd.
Qingdao Rótec Auto Parts Co., Ltd.
Shenyang Yinghao Machinery Co.
Longkou Jinzheng Machinery Co.
Dixion Brake System (Longkou) Ltd.
Laizhou Wally Automobile Co., Ltd.
The People's Republic of China: Non-Malleable Cast Iron Pipe Fittings ³ A-570-875 | 4/1/04-3/31/05
Buxin Myland (Foundry) Ltd.
Myland Industrial Co., Ltd.
Turkey: Certain Steel Concrete Reinforcing Bars A-489-807 | 4/1/04-3/31/05
Akmisa Foreign Trade Ltd., Co.
Buyurgan Group Steel Division and Metalenerji A.S.
Cag Celif Demir ve Celik Endustri A.S.
Cebitas Demir Celik Endustrisi A.S.
Cemtas Celik Makina Sanayi ve Ticaret A.S.
Colakoglu Metalurji A.S. and Colokaglu Dis Ticaret
Cukurova Celik Endustrisi A.S.
Demirsan Haddecilik Sanayi ve Ticaret A.S.
DHT Metal
Diler Demir Celik Endustrisi ve Ticaret A.S.
Efesan Demir Sanayi ve Ticaret A.S. and Efe Demir Celik (The Efe Group)
Ege Celik Endustrisi Sanayi ve Ticaret A.S.
Ege Metal Demir Celik Sanayi ve Ticaret A.S.
Ekinciler Holding A.S. and Ekinciler Demir ve Celik Sanayi A.S.
HABAS Sinai ve Tibbi Gazlar Istihsal Endustrisi A.S.
ICDAS Celik Enerji Tersane ve Ulasim Sanayi, A.S.
Ilhanlar Rolling and Textile Industries, Ltd., Sti. and Ilhanlar Group
Intermet A.S.
Iskenderun Iron & Steel Works Co.
Izmir Demir Celik Sanayi A.S.
Kaptan Demir Celik Endustri ve Ticaret A.S.
Kardemir—Karabuk Demir Celik Sanayi ve Ticaret A.S.
Koc Dis Ticaret A.S.
Kroman Steel Industries Co. (Droman Celik Sanayi A.S.)
Kurum Steel Co. (Kurum Demir San. ve Ticaret Metalenerji A.S.)
Metas Izmir Metalurji Fabrikasi Turk A.S.
Nurmet Celik Sanayi ve Ticaret A.S.
Nursan Celik Sanayi ve Haddecilik A.S.
Sivas Demir Celik Isletmeleri A.S.
Sozer Steel Works
ST Steel Industry and Foreign Trade Ltd. Sti.
Tosyali Demir Celik Sanayi A.S.
Ucel Haddecilik Sanayi ve Ticaret A.S.
Yazici Demir Celik Sanayi ve Ticaret A.S. and Diler Dis Ticaret A.S.
Yesilyurt Demir Celik
Yesilyurt Demir Cekme San ve Tic Ltd. Sirketi
Yolbulan Group (Yolbulanlar Nak. ve Ticaret A.S., Yolbulan Metal Sanayi ve Ticaret A.S. and Yolbulan Dis Ticaret Ltd. Sti.
Countervailing Duty Proceeding
None.
Suspension Agreements
None.
¹ If one of the named companies does not qualify for a separate rate, all other exporters of automotive replacement glass windshields from the People's Republic of China who have not qualified for a separate rate are deemed to be covered by this review as part of the single PRC entity of which the named exporters are a part.
² If one of the named companies does not qualify for a separate rate, all other exporters of brake rotors from the People's Republic of China who have not qualified for a separate rate are deemed to be covered by this review as part of the single PRC entity of which the named exporters are a part.
³ If one of the named companies does not qualify for a separate rate, all other exporters of non-malleable cast iron pipe fittings from the People's Republic of China who have not qualified for a separate rate are deemed to be covered by this review as part of the single PRC entity of which the named exporters are a part.

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine, consistent with FAG Italia v. United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)), and 19 CFR 351.221(c)(1)(i).

Dated: May 23, 2005.
Holly A. Kuga,
Senior Office Director, AD/CVD Operations, Office for Import Administration.

[FR Doc. 05-10673 Filed 5-26-05; 8:45 am]

BILLING CODE 3510-DS-M